DEPARTMENT OF ENERGY

Federal Energy Regulatory Commission

Combined Notice of Filings #1

Take notice that the Commission received the following exempt wholesale generator filings:

Docket Numbers: EG25-82-000.

Applicants: VESI 38 LLC.

Description: VESI 38 LLC submits Notice of Self-Certification of Exempt Wholesale Generator Status.

Filed Date: 1/29/25.

Accession Number: 20250129-5228.

Comment Date: 5 p.m. ET 2/19/25.

Docket Numbers: EG25-83-000.

Applicants: B&K Solar, LLC.

Description: B&K Solar, LLC submits Notice of Self-Certification of Exempt Wholesale Generator Status.

Filed Date: 1/30/25.

Accession Number: 20250130-5000.

Comment Date: 5 p.m. ET 2/20/25.

Docket Numbers: EG25-84-000.

Applicants: Barn Perch Solar, LLC.

Description: Barn Perch Solar, LLC submits Notice of Self-Certification of Exempt Wholesale Generator Status.

Filed Date: 1/30/25.

Accession Number: 20250130-5012.

Comment Date: 5 p.m. ET 2/20/25.

Docket Numbers: EG25-85-000.

Applicants: Juniper Solar, LLC.

Description: Juniper Solar, LLC submits Notice of Self-Certification of Exempt Wholesale Generator Status.

Filed Date: 1/30/25.

Accession Number: 20250130-5014.

Comment Date: 5 p.m. ET 2/20/25.

Docket Numbers: EG25-86-000.

Applicants: Melsam Solar, LLC.

Description: Melsam Solar, LLC submits Notice of Self-Certification of Exempt Wholesale Generator Status.

Filed Date: 1/30/25.

Accession Number: 20250130-5021.

Comment Date: 5 p.m. ET 2/20/25.

Docket Numbers: EG25-87-000.

Applicants: Rollins Solar, LLC.

Description: Rollins Solar, LLC submits Notice of Self-Certification of Exempt Wholesale Generator Status.

Filed Date: 1/30/25.

Accession Number: 20250130-5026.

Comment Date: 5 p.m. ET 2/20/25.

Docket Numbers: EG25-88-000.

Applicants: Ross Solar, LLC.

Description: Ross Solar, LLC submits Notice of Self-Certification of Exempt Wholesale Generator Status.

Filed Date: 1/30/25.

Accession Number: 20250130-5028.

Comment Date: 5 p.m. ET 2/20/25.

Docket Numbers: EG25-89-000.

Applicants: Shorthorn Solar, LLC.

Description: Shorthorn Solar, LLC submits Notice of Self-Certification of Exempt Wholesale Generator Status.

Filed Date: 1/30/25.

Accession Number: 20250130-5029.

Comment Date: 5 p.m. ET 2/20/25.

Docket Numbers: EG25-90-000.

Applicants: Ten Governors Solar, LLC.

Description: Ten Governors Solar, LLC submits Notice of Self-Certification of Exempt Wholesale Generator Status.

Filed Date: 1/30/25.

Accession Number: 20250130-5030.

Comment Date: 5 p.m. ET 2/20/25.

Docket Numbers: EG25-91-000.

Applicants: Wallace Solar I, LLC.

Description: Wallace Solar I, LLC submits Notice of Self-Certification of Exempt Wholesale Generator Status.

Filed Date: 1/30/25.

Accession Number: 20250130-5031.

Comment Date: 5 p.m. ET 2/20/25.

Docket Numbers: EG25-92-000.

Applicants: Culpepper Solar, LLC.

Description: Culpepper Solar, LLC submits Notice of Self-Certification of Exempt Wholesale Generator Status.

Filed Date: 1/30/25.

Accession Number: 20250130-5032.

Comment Date: 5 p.m. ET 2/20/25.

Docket Numbers: EG25-93-000.

Applicants: Five Circles Solar, LLC.

Description: Five Circles Solar, LLC submits Notice of Self-Certification of Exempt Wholesale Generator Status.

Filed Date: 1/30/25.

Accession Number: 20250130-5034.

Comment Date: 5 p.m. ET 2/20/25.

Docket Numbers: EG25-94-000.

Applicants: Aulander Holloman Solar, LLC.

Description: Aulander Holloman Solar, LLC submits Notice of Self-Certification of Exempt Wholesale Generator Status.

Filed Date: 1/30/25.

Accession Number: 20250130-5203.

Comment Date: 5 p.m. ET 2/20/25.

Take notice that the Commission received the following electric rate filings:

Docket Numbers: ER18-128-001.

Applicants: 54KR 8ME LLC.

Description: Compliance filing: Compliance to 1 to be effective 1/31/2025.

Filed Date: 1/30/25.

Accession Number: 20250130-5131.

Comment Date: 5 p.m. ET 2/20/25.

Docket Numbers: ER25-2-001.

Applicants: Midcontinent Independent System Operator, Inc., Missouri Joint Municipal Electric Utility Commission.

Description: Compliance filing: Midcontinent Independent System Operator, Inc. submits tariff filing per 35: 2025-01-30_Compliance for MJMEUC Request for Approval of Capital Structure to be effective 1/1/2025.

Filed Date: 1/30/25.

Accession Number: 20250130-5039.

Comment Date: 5 p.m. ET 2/20/25.

Docket Numbers: ER25-590-001.

Applicants: Pome BESS LLC.

Description: Tariff Amendment: POME BESS Deficiency Filing ER25-590 to be effective 2/17/2025.

Filed Date: 1/29/25.

Accession Number: 20250129-5243.

Comment Date: 5 p.m. ET 2/7/25.

Docket Numbers: ER25-600-001.

Applicants: PJM Interconnection, L.L.C.

Description: Tariff Amendment: Amendment of ER25-600-000, Amended ISA No. 7029, Queue No. AD2-047 to be effective 2/1/2025.

Filed Date: 1/29/25.

Accession Number: 20250129-5223.

Comment Date: 5 p.m. ET 2/19/25.

Docket Numbers: ER25-1094-000.

Applicants: CPV Shore, LLC.

Description: CPV Shore, LLC requests prospective waiver of filing requirement under Schedule 2 to the PJM Interconnection, L.L.C. OATT re CPV Shores submittal of informational filing 90 days prior to planned transfer of indirect ownership interests.

Filed Date: 1/29/25.

Accession Number: 20250129-5170.

Comment Date: 5 p.m. ET 2/19/25.

Docket Numbers: ER25-1095-000.

Applicants: PJM Interconnection, L.L.C.

Description: 205(d) Rate Filing: Market Participation of Hybrid Resources Phase III Proposal to be effective 3/31/2025.

Filed Date: 1/29/25.

Accession Number: 20250129-5232.

Comment Date: 5 p.m. ET 2/19/25.

Docket Numbers: ER25-1096-000.

Applicants: PJM Interconnection, L.L.C.

Description: 205(d) Rate Filing: Amendment to ISA Nos. 2712, 3069, 3070, 3641 & 4157 to be effective 4/1/2025.

Filed Date: 1/30/25.

Accession Number: 20250130-5051.

Comment Date: 5 p.m. ET 2/20/25.

Docket Numbers: ER25-1097-000.

Applicants: Southwest Power Pool, Inc.

Description: 205(d) Rate Filing: 2491R13 Evergy Kansas Central, Inc. NITSA NOA to be effective 1/1/2025.

Filed Date: 1/30/25.

Accession Number: 20250130-5066.

Comment Date: 5 p.m. ET 2/20/25.

Docket Numbers: ER25-1098-000.

Applicants: Midcontinent Independent System Operator, Inc.

Description: 205(d) Rate Filing: 2025-01-30_Schedule 31 Annual Update Filing to be effective 4/1/2025.

Filed Date: 1/30/25.

Accession Number: 20250130-5099.

Comment Date: 5 p.m. ET 2/20/25.

Docket Numbers: ER25-1099-000.

Applicants: Ameren Illinois Company.

Description: 205(d) Rate Filing: 2025-01-30_SA 4440 Ameren Illinois-City of Carmi-IMEA WCA to be effective 4/1/2025.

Filed Date: 1/30/25.

Accession Number: 20250130-5125.

Comment Date: 5 p.m. ET 2/20/25.

Docket Numbers: ER25-1101-000.

Applicants: TrailStone Energy Marketing LLC, Trailstone Renewables, LLC.

Description: Notice of Cancellation of Market Based Rate Tariff of Trailstone Renewables LLC.

Filed Date: 1/28/25.

Accession Number: 20250128-5275.

Comment Date: 5 p.m. ET 2/18/25.

Docket Numbers: ER25-1102-000.

Applicants: PacifiCorp.

Description: 205(d) Rate Filing: Amended Powerex Construction and Security Agreement (SA No. 1038) to be effective 1/31/2025.

Filed Date: 1/30/25.

Accession Number: 20250130-5149.

Comment Date: 5 p.m. ET 2/20/25.

Docket Numbers: ER25-1103-000.

Applicants: Indianapolis Power & Light Company.

Description: 205(d) Rate Filing: 2025-01-30_IPL dba AES Transition to Forward Looking Formula Rate to be effective 4/1/2025.

Filed Date: 1/30/25.

Accession Number: 20250130-5199.

Comment Date: 5 p.m. ET 2/20/25.

Docket Numbers: ER25-1104-000.

Applicants: Aulander Holloman Solar, LLC.

Description: Compliance filing: Notice of Succession, New eTariff Baseline, Tariff Revisions & Change in Status to be effective 1/31/2025.

Filed Date: 1/30/25.

Accession Number: 20250130-5223.

Comment Date: 5 p.m. ET 2/20/25.

Docket Numbers: ER25-1105-000.

Applicants: Aulander Holloman Solar, LLC.

Description: Compliance filing: Notice of Succession and Revisions to Rate Schedule to be effective 1/31/2025.

Filed Date: 1/30/25.

Accession Number: 20250130-5229.

Comment Date: 5 p.m. ET 2/20/25.

Docket Numbers: ER25-1106-000.

Applicants: PJM Interconnection, L.L.C.

Description: 205(d) Rate Filing: Amendment to ISA Nos. 2181, 3887 & 4227; Queue Nos. AB2-175, W2-014, NQ131 to be effective 4/1/2025.

Filed Date: 1/30/25.

Accession Number: 20250130-5236.

Comment Date: 5 p.m. ET 2/20/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: January 30, 2025.
Carlos D. Clay,
Deputy Secretary.

[FR Doc. 2025-02241 Filed 2-4-25; 8:45 am]

BILLING CODE 6717-01-P